DEPARTMENT OF LABOR

Employment and Training Administration

[NAFTA-04129]

Imaging Technologies, Inc., Cookeville, TN; Notice of Termination of Investigation

Pursuant to Title V of the North American Free Trade Agreement Implementation Act and in accordance with Section 250(a), Subchapter D, Chapter 2, Title II of the Trade Act of 1974, as amended (19 U.S.C. 2331), an investigation was initiated on August 28, 2000, on behalf of workers at Imaging Technologies Inc., Cookeville, Tennessee.

The petitioner has requested that the petition be withdrawn. Consequently, further investigation in this case would serve no purpose, and the investigation has been terminated.

Signed in Washington, D.C. this 26th day of September, 2000.
Edward A. Tomchick,
Director, Division of Trade Adjustment Assistance.

[FR Doc. 00-25608 Filed 10-4-00; 8:45 am]

BILLING CODE 4510-30-M